DEPARTMENT OF TRANSPORTATION

Federal Highway Administration

[Docket No. FHWA-03-16256]

Agency Information Collection Activities; Request for Comments; Renewed Approval of Three Information Collections

AGENCY: Federal Highway Administration (FHWA), DOT.

ACTION: Notice and request for comments.

SUMMARY: The FHWA invites public comments about our intention to request the Office of Management and Budget's (OMB) approval to renew the three information collections, which are summarized below under Supplementary Information. We are required to publish this notice in the Federal Register by the Paperwork Reduction Act of 1995.

DATES: Please submit comments by January 26, 2004.

ADDRESSES: You may submit comments identified by DOT DMS Docket Number FHWA-3-16256 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information.

SUPPLEMENTARY INFORMATION: 1. Title: Developing and Recording Costs for Utility Adjustments.

OMB Control Number: 2125-0519 (Expiration Date: October 31, 2003).

Abstract: Under 23 U.S.C. 123, the FHWA reimburses the State highway agencies when they have paid the costs of utility facilities' relocations that are required by the construction of Federal-aid highway projects. The FHWA requires the utilities to document the costs for adjusting their facilities. The utilities must have a system for recording labor, materials, supplies and equipment costs incurred when undertaking adjustments to accommodate the highway projects. This record of costs forms the basis for payment by the State highway agency to the utility and in turn the FHWA reimburses the State for its payment to the utility. The utilities are required to maintain these records of costs for three years after final payment is received.

Respondents: 3,000 utility companies.

Frequency: On average, approximately 3,000 utility companies would have about 3 adjustments of its facilities per year on Federal-aid projects. Approximately, 9,000 reimbursable utility adjustments are made yearly by about 3,000 utility firms.

Estimated Total Annual Burden: The FHWA estimates that this collection imposes a total annual burden on the public of 180,000 hours. The average amount of time required by these firms to calculate the adjustment costs and maintain the required records is 20 hours.

FOR FURTHER INFORMATION CONTACT: Mr. Roger McClellan, (202) 366-6765, Office of Program Administration, Federal Highway Administration, Department of Transportation, 400 7th Street, SW., Washington, DC 20590-0001. Office hours are from 7:30 a.m. to 4:30 p.m., Monday through Friday, except Federal holidays.

2. Title: Developing and Recording Costs for Railroad Adjustments.

OMB Control Number: 2125-0521 (Expiration Date: October 31, 2003).

Abstract: Under 23 U.S.C. 130, the FHWA reimburses the State highway agencies when they have paid for the cost of projects that (1) eliminate hazards at railroad/highway crossings, or (2) adjust railroad facilities to accommodate the construction of highway projects. The FHWA requires the railroad companies to document their costs incurred for adjusting their facilities. The railroad companies must have a system for recording labor, materials, supplies, and equipment costs incurred when undertaking the necessary railroad work. This record of costs forms the basis for payment by the State highway agency to the railroad company, and in turn FHWA reimburses the State for its payment to the railroad company.

Respondents: 115 railroad companies.

Frequency: Nearly 115 railroad companies are involved in an average of 10 railroad/highway projects per year.

Estimated Total Annual Burden: The FHWA estimates that the total annual burden imposed on the public by this collection is 18,400 hours. The average number of hours required to calculate the railroad adjustment costs and maintain the required records is 16 hours.

FOR FURTHER INFORMATION CONTACT: Ms. Debra Williams Chappell, (202) 366-0087, Department of Transportation, Federal Highway Administration, Office of Safety, 400 Seventh Street, SW., Washington, DC 20590. Office hours are from 7:45 a.m. to 4:15 p.m., Monday through Friday, except Federal holidays.

3. Title: Utility Use and Occupancy Agreements.

OMB Control Number: 2125-0522 (Expiration Date: October 31, 2003).

Abstract: Under 23 U.S.C. 116, the FHWA requires the State and/or local highway authorities to maintain the highway rights-of-way including the control of its use by the utilities. In controlling the utilities, use of the highway rights-of-way the State/local highway authorities are required to document the terms under which the utility is to cross or otherwise occupy the highway rights-of-way. This documentation, consisting of a use and occupancy agreement (permit), must be in writing and must be maintained in the State/local highway authority's files for a three-year retention period.

Respondents: 4, 600.

Frequency: Nearly 4,600 State/local highway authorities are each involved in an average of 15 use and occupancy agreements per year.

Estimated Total Annual Burden: The FHWA estimates that the total annual burden imposed on the public by this collection is 552,000 hours. The estimated amount of time required by the State/local highway authorities to process the permits is 8 hours.

FOR FURTHER INFORMATION CONTACT: Mr. Roger McClellan, (202) 366-6765, Office of Program Administration, Federal Highway Administration, Department of Transportation, 400 7th Street, SW., Washington, DC 20590-0001. Office hours are from 7:30 a.m. to 4:30 p.m., Monday through Friday, except Federal holidays.

Authority: The Paperwork Reduction Act of 1995; 44 U.S.C. Chapter 35, as amended; and 49 CFR 1.48.

Issued on: November 19, 2003.
James R. Kabel,
Chief, Management Programs and Analysis Division.

[FR Doc. 03-29391 Filed 11-24-03; 8:45 am]

BILLING CODE 4910-22-P